DEPARTMENT OF LABOR

Employment and Training Administration

[TA-W-80,473]

Reading Powder Coatings, Inc., Including On-Site Leased Workers From Berks and Beyond Employment Services and Gage Personnel Reading, PA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and Alternative Trade Adjustment Assistance on October 19, 2011, applicable to workers of Reading Powder Coatings, Inc., Reading, Pennsylvania. The workers are engaged in activities related to the production of powder coatings. The notice was published in the Federal Register on November 3, 2011 (76 FR 68220).

At the request of the State agency, the Department reviewed the certification for workers of the subject firm. New information shows that workers leased from Berks and Beyond Employment Services and Gage Personnel were employed on-site at the Reading, Pennsylvania location of Reading Powder Coatings, Inc. The Department has determined that these workers were sufficiently under the control of Reading Powder Coatings, Inc. to be considered leased workers.

The intent of the Department's certification is to include all workers of the subject firm adversely affected by a shift in the production of powder coatings to Mexico.

Based on these findings, the Department is amending this certification to include workers leased from Berks and Beyond Employment Services and Gage Personnel working on-site at the Reading, Pennsylvania location of the subject firm.

The amended notice applicable to TA-W-80,473 is hereby issued as follows:

All workers of Reading Powder Coatings, Inc., including on-site leased workers from Berks and Beyond Employment Services and Gage Personnel, Reading, Pennsylvania, who became totally or partially separated from employment on or after September 26, 2010, through October 19, 2013, are eligible to apply for adjustment assistance under Section 223 of the Trade Act of 1974, and are also eligible to apply for alternative trade adjustment assistance under Section 246 of the Trade Act of 1974.

Signed at Washington, DC, this 9th day of January 2012.
Michael W. Jaffe,
Certifying Officer, Office of Trade Adjustment Assistance.

[FR Doc. 2012-1333 Filed 1-23-12; 8:45 am]

BILLING CODE 4510-FN-P